DEPARTMENT OF TRANSPORTATION

Pipeline and Hazardous Materials Safety Administration

[Docket No. PHMSA-2014-0014]

Pipeline Safety: Public Workshop on Pipeline Safety Management Systems

Correction

In notice document 2015-08115 appearing on pages 19113-19114 in the issue of April 9, 2015, make the following correction:

On page 19113, in the second column, under the DATES heading, in the third line, “8:00 a.m. to 4:30 p.m. EST” should read “8:00 a.m. to 4:30 p.m. CST”.

[FR Doc. C1-2015-08115 Filed 4-9-15; 4:15 pm]

BILLING CODE 1505-01-D